DEPARTMENT OF AGRICULTURE

Natural Resources Conservation Service

Notice of the Availability of the Draft National Animal Agriculture Conservation Framework (NAACF) for Public Review and Comment

AGENCY: Natural Resources Conservation Service (NRCS), Department of Agriculture (USDA).

ACTION: Notice and request for comments.

SUMMARY: NRCS is seeking public comments on the draft National Animal Agriculture Conservation Framework (NAACF). NRCS is asking for comments from individuals; the livestock and poultry industries; private consultants; Federal, State, Tribal, and local governments or subgroups thereof; universities and colleges; environmental groups; conservation organizations; and other entities. These comments will assist NRCS in the development of the final NAACF. This National Framework presents an approach for assisting livestock and poultry producers with voluntary, proactive efforts to foster environmentally sound and economically viable production.

DATES: Comments must be received by October 27, 2003.

Location of the Document: The full text of the NAACF and related documents can be found on the NRCS Homepage at: http://www.nrcs.usda.gov/programs/afo, or can be obtained by hard copy from the contact address below.

ADDRESSES: Address all requests and comments to: Angel L. Figueroa, Natural Resources Specialist, Natural Resources Conservation Service, 5601 Sunnyside Avenue, Stop Code 5473, Beltsville, Maryland 20705; phone: 301-504-2225; fax: 301-504-2264, e-mail: angel.figueroa@usda.gov.

SUPPLEMENTARY INFORMATION: Addressing the conservation needs of America's livestock and poultry producers is a public policy priority. The natural resource conservation provisions of the Farm Security and Rural Investment Act of 2002, Pub. L. 107-171, made clear that producers should receive assistance to improve their operations' environmental performance, address Federal, Tribal, State, and local environmental regulatory requirements, and maintain economically viable operations.

In January 2003, Bruce I. Knight , Chief, NRCS, called for NRCS State Conservationists to work with their State Technical Committees to develop State Frameworks with the objective of meeting the conservation challenges facing animal production agriculture over the next 10 to 15 years. These State Frameworks provided the foundation for the development of the draft NAACF. More importantly, this National Framework recognizes that meaningful action will take place on farms and ranches across the Nation, and that programmatic objectives and concrete goals will be appropriately established at the local level in a manner consistent with the authorized and required purposes and objectives of the underlying conservation programs. This National Framework also envisions that these locally established goals, consistent with the underlying national guidance, will become NRCS objectives through established agency planning processes that build State and national priorities from local input.

The NAACF presents a vision for voluntary, proactive efforts to foster environmentally sound and economically viable livestock and poultry production. It envisions collaboration among Federal, Tribal, State, and local governments; producers; the public; and the private sector to bring the initiative, resources, and commitment to support environmental stewardship in animal agriculture. Four objectives guide this vision:

—Helping producers to meet environmental regulatory requirements;

—Helping producers reduce the need for further regulation through flexible, results-based multi-media solutions;

—Promoting innovation and market-based opportunities; and

—Sharing knowledge and increasing accountability.

The draft NAACF identifies six guiding principles that lay the groundwork for approaching environmental stewardship:

• Local Decision-making and Action—Defining the locally important issues, opportunities, and needs as the basis for developing workable objectives and actions. It is based on the principle that local stakeholders are best suited to deal with local resource challenges and opportunities.

• Building and Enhancing Partnerships—A broad cross section of partners with interests and concerns related to animal agriculture, and new partners not traditionally engaged in agriculture will be needed.

• Flexible and Practical—To be workable, approaches must be practical and adaptive in order to respond to changes in animal agriculture and its environmental, social, and economic conditions. Animal production is dynamic, and approaches must be flexible to respond to the demands of changing conditions.

• Progressive Implementation—The progression toward complete resource management systems must be based on the implementation of individual decisions over a reasonable period of time. Progressive conservation implementation ensures steady and logical advancements in achieving environmental objectives. Incremental achievement of environmental benefits enables livestock and poultry operations to remain economically viable while progressing toward the attainment of environmental objectives.

• Forward Looking and Innovative—Innovative approaches and technologies will be needed to bring new solutions to current resource concerns, as well as providing solutions for emerging concerns.

• Science-based—Sound science must form the basis for solutions to ensure that that they deliver what is expected by producers and the public. Through advancements in science, new innovations that are more effective and practical will be discovered, proven, and justified.

NRCS is committed to working effectively with its current partners in the agricultural and environmental communities, and bringing new partners to the table, to develop and implement approaches to help the Nation's livestock and poultry producers achieve environmental and economic objectives. The NAACF is intended to be a representation of NRCS’ commitment to this critical conservation opportunity.

Signed at Washington, DC, on August 29, 2003.
Bruce I. Knight,
Chief, Natural Resources Conservation Service.

[FR Doc. 03-22979 Filed 9-9-03; 8:45 am]

BILLING CODE 3410-16-P